DEPARTMENT OF HEALTH AND HUMAN SERVICES

National Institutes of Health

National Heart, Lung, and Blood Institute; Amended Notice of Meeting

Notice is hereby given of a change in the meeting of the National Heart, Lung, and Blood Institute Special Emphasis Panel, October 3, 2013, 08:00 a.m. to October 4, 2013, 05:00 p.m., The William F. Bolger Center 9600 Newbridge Drive, Potomac, MD 20854 which was published in the Federal Register on September 10, 2013, 78 FR 55268.

The notice is amended to change the date of the meeting from October 3-4, 2013 to November 21-22, 2013. The meeting is closed to the public.

Dated: November 1, 2013.
Michelle Trout,
Program Analyst, Office of Federal Advisory Committee Policy.

[FR Doc. 2013-26621 Filed 11-6-13; 8:45 am]

BILLING CODE 4140-01-P